DEPARTMENT OF DEFENSE

Department of the Army

Surplus Property; Notice of Additional Property at the Former Pueblo Chemical Depot

AGENCY: Department of the Army, DoD.

ACTION: Notice.

SUMMARY: This Notice amends the Notice published in the Federal Register on December 20, 2013 and provides information regarding the property that has been determined surplus to the United States needs pursuant to section 2854 (Closure and Disposal of the Pueblo Chemical Depot, Pueblo County, Colorado) of the National Defense Authorization Act for Fiscal Year 2024 (NDAA FY24) and in accordance with procedures and authorities for the closure, management, and disposal of property under the appropriate base closure laws, and following screening with Federal agencies and Department of Defense components.

DATES: Applicable November 22, 2024, by adding the following surplus property.

FOR FURTHER INFORMATION CONTACT: Headquarters, Department of the Army, Deputy Chief of Staff, G-9, Installation Services Directorate, Environmental Division, BRAC Office, Attn: DAIN-ISE BRAC Program Manager James Foster, 600 Army Pentagon, Washington, DC 20310-0600, (703) 545-2541. For information regarding the property listed below by contacting the Army BRAC Office at the mailing address above or at James.c.foster10.civ@army.mil.

SUPPLEMENTARY INFORMATION: Under the provisions of the Public Buildings, Property, and Works Act of 2002, as amended, the Defense Base Closure and Realignment Act of 1990, as amended, and other public benefit conveyance authorities, this surplus property may be available for conveyance to State and local governments and other eligible entities for public benefit purposes. Notices of interest from other interested parties located in the vicinity of any listed surplus property should be submitted to the recognized Local Redevelopment Authority (LRA). This notice amends the notice published December 20, 2013 (78 FR 245).

Surplus Property

1. Addition

Colorado

Pueblo Chemical Depot, Pueblo Chemical Agent-Destruction Pilot Plant (PCAPP) Parcel, 45825 Hwy. 96E, Personnel Support Building, Pueblo, CO 81006. The Army's POC is Ms. Christine (Chris) Hambric. POC information: email address christine.g.hambric.civ@army.mil; telephone number 571-588-8149, and mailing address 45825 Hwy. 96E, Building 49, Pueblo, CO 81006. The Pueblo Depot Activity Development Authority has been recognized as the Local Redevelopment Authority (LRA). Mr. Russell A. DeSalvo III, LRA President and CEO, can be reached for information at telephone number 719-947-3770; email address rdesalvo@PuebloPlex.com; and mailing address 45825 CO-HWY 96 E, Building 46, Pueblo, CO 81006.

Authority: This action is authorized by section 2854 (Closure and Disposal of the Pueblo Chemical Depot, Pueblo County, Colorado) of the National Defense Authorization Act for Fiscal Year 2024.

Dated: November 22, 2024.
David H. Dentino,
Deputy Assistant Secretary of the Army (Installations, Housing and Partnerships).
James W. Satterwhite Jr.,
Army Federal Register Liaison Officer.

[FR Doc. 2024-28502 Filed 12-4-24; 8:45 am]

BILLING CODE 3711-CC-P